COMMITTEE FOR PURCHASE FROM PEOPLE WHO ARE BLIND OR SEVERELY DISABLED

Procurement List; Additions and Deletion

AGENCY: Committee for Purchase From People Who Are Blind or Severely Disabled.

ACTION: Additions to and Deletion From the Procurement List.

SUMMARY: This action adds to the Procurement List services to be furnished by nonprofit agencies employing persons who are blind or have other severe disabilities, and deletes from the Procurement List a service previously furnished by such agencies.

DATES: Effective Date: December 23, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On September 14, September 21 and September 28, the Committee for Purchase From People Who Are Blind or Severely Disabled published notice (72 FR 52542; 53989; 55173) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Supply Center, Fort Belvoir, Fort Belvoir, VA.

NPA: Virginia Industries for the Blind, Charlottesville, VA.

Contracting Activity: Department of the Army, Capital District Contracting Center (CDCC), Fort Belvoir, VA.

Service Type/Location: Call Center Operations, (Tele-Services-Tier 1 & Other Support Services, not to exceed 1% of the total requirement), Centers for Medicare and Medicaid Services, Beneficiary Contact Center Facility (BCC), 2400 Oakdale Boulevard, Coralville, IA.

NPA: Peckham Vocational Industries, Inc., Lansing, MI.

Contracting Activity: Department of Health and Human Services, Centers for Medicare and Medicaid Services, Baltimore, MD.

Service Type/Location: Custodial Services, U.S. Army Reserve Center, Camp Bullis, Building 6143, San Antonio, TX.

NPA: Professional Contract Services, Inc., Austin, TX.

Contracting Activity: Army Contracting Agency, Southern Region, Fort Sam Houston, TX.

Service Type/Location: Custodial Services, U.S. Coast Guard Office, 110 Mount Elliot Street, Detroit, MI.

NPA: New Horizons Rehabilitation Services, Inc., Auburn Hills, MI.

Contracting Activity: U.S. Coast Guard, Cleveland, OH.

Service Type/Location: Document Destruction, Social Security Administration, 1301 Young Street, Dallas, TX.

NPA: Expanco, Inc., Fort Worth, TX.

Contracting Activity: Social Security Administration, Dallas, TX.

Service Type/Location: Grounds Maintenance, Naval Support Activity, 2300 General Meyers Avenue, Algiers, LA.

NPA: Goodworks, Inc., Metairie, LA.

Contracting Activity: Naval Facilities Engineering Command (NAVFAC)-SE, New Orleans, LA.

Deletion

On September 28, 2007, the Committee for Purchase From People Who Are Blind or Severely Disabled published notice (72 FR 55174) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial, Social Security Building, 350 Donmoor, Baton Rouge, LA.

NPA: Louisiana Industries for the Disabled, Inc., Baton Rouge, LA.

Contracting Activity: General Services Administration.

Kimberly M. Zeich,
Director, Program Operations.

[FR Doc. E7-22850 Filed 11-21-07; 8:45 am]

BILLING CODE 6353-01-P